DEPARTMENT OF HEALTH AND HUMAN SERVICES

National Institutes of Health

Proposed Collection; Comment Request; National Cancer Institute Science Enrichment Program Surveys

SUMMARY: In compliance with the requirement of section 44 U.S.C. 3507(a)(1)(D) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: National Cancer Institute Science Enrichment Program Evaluation: Follow-up Survey. Type of Information collection Request: New. Need and Use of Information Collection: NCI SEP is a five-week summer residential program on university campuses that services under-represented minority and under-served students who have just completed ninth grade. The program goals are to (1) Encourage student participants to select careers in science, mathematics, and/or research, and (2) broaden and enrich students' science, research, and sociocultural backgrounds. The proposed data collection is a follow-up survey of SEP students who participated in the program during one of three different funding cycles between 1990 and 2003, and a control group of students who did not participate in the program. The information from the proposed data collection will supplement previous evaluation results, which have been and will continue to be used to judge program process and outcomes. Frequency of Response: One time. Affected Public: Individuals or households. Type of Respondents: High school and college students, and young adults. Cost to Respondents: $5,872. The annual reporting burden is as follows:

Estimates of Hour Burden: Burden Requested
Type of respondents | Number of respondents | Frequency of response | Average time per response | Average annual hour burden
Former SEP Participants (1990-2003):
SEP participants 1990-1997 | 644 | 1 | 0.25 | 161
SEP participants 1998-2002 | 479 | 1 | 0.25 | 119.75
SEP participants 2003 | 100 | 1 | 0.25 | 25
Control Group Participants | 245 | 1 | 0.25 | 61.25
Total | 1,468 |  |  | 367

There are no Capital Costs, Operating Costs, and/or Maintenance Costs to report.

Request for Comments: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Mr. Frank Jackson, Center to Reduce Cancer Health Disparities, National Cancer Institute, National Institutes of Health, 6116 Executive Boulevard, Suite 602, Rockville, MD 20852, or call non-toll-free number (301) 496-8589, or e-mail your request, including your address to fj12i@nih.gov.

Comments Due Date: Comments regarding this information collection are best assured of having their full effect if received within 30 days of this publication.

Dated: July 28, 2004.
Rachelle Ragland-Greene,
NCI Project Clearance Liaison, National Institutes of Health.

[FR Doc. 04-17705 Filed 8-3-04; 8:45 am]

BILLING CODE 4140-01-M